DEPARTMENT OF HOUSING AND URBAN DEVELOPMENT

[Docket No. FR-5871-N-03]

Notice of Regulatory Waiver Requests Granted for the Third Quarter of Calendar Year 2015

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2015, and ending on September 30, 2015.

FOR FURTHER INFORMATION CONTACT: For general information about this notice, contact Camille E. Acevedo, Associate General Counsel for Legislation and Regulations, Department of Housing and Urban Development, 451 Seventh Street SW., Room 10282, Washington, DC 20410-0500, telephone 202-708-1793 (this is not a toll-free number). Persons with hearing- or speech-impairments may access this number through TTY by calling the toll-free Federal Relay Service at 800-877-8339.

For information concerning a particular waiver that was granted and for which public notice is provided in this document, contact the person whose name and address follow the description of the waiver granted in the accompanying list of waivers that have been granted in the third quarter of calendar year 2015.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2015 through September 30, 2015. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2015) before the next report is published (the fourth quarter of calendar year 2015), HUD will include any additional waivers granted for the third quarter in the next report.

Accordingly, information about approved waiver requests pertaining to HUD regulations is provided in the Appendix that follows this notice.

Dated: December 11, 2015.
Helen R. Kanovsky,
General Counsel.

Appendix

Listing of Waivers of Regulatory Requirements Granted by Offices of the Department of Housing and Urban Development July 1, 2015 Through September 30, 2015

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers, please see the name of the contact person that immediately follows the description of the waiver granted.

• Regulation: 24 CFR 58.22(a).

Project/Activity: The Norwalk Redevelopment Agency requested a waiver of 24 CFR 58.22(a) for the modernization of the Globe Theater in Norwalk, CT as part of the downtown Wall Street Redevelopment Plan.

Nature of Requirement: HUD's regulation at 24 CFR 58.22(a) provides that “until the Request for Release of Funds and the related certification have been approved, neither a recipient nor any participant in the development process may commit non-HUD funds on or undertake an activity...if the activity or project would have an adverse environmental impact or limit the choice of reasonable alternatives.”

Granted by: Harriet Tregoning, Principal Deputy Assistance Secretary, Office of Community Planning and Development.

Date Granted: September 23, 2015.

Reason Waived: The project demonstrated that it would help promote economic development in downtown Norwalk. Further, the developer did not intentionally violate the regulation; no HUD funds were committed; and based on the environmental review and the HUD field inspection, it was concluded that granting a waiver for this project would not result in any unmitigated, adverse environmental impact.

Contact: Lauren B. McNamara, Office of Environment and Energy, Office of Community Planning and Development, Department of Housing and Urban Development, 451 Seventh Street SW., Room 7212 Washington, DC 20410, telephone (202) 402-4466.

• Regulation: 24 CFR 58.22(a).

Project/Activity: The City of Simi Valley, CA requested a waiver of 24 CFR 58.22(a) for the construction of the Camino Esperanza Apartments that will feature 30 HOME-assisted units together with tax-credit financing.

Nature of Requirement: HUD's regulation at 24 CFR 58.22(a) provides that “until the Request for Release of Funds and the related certification have been approved, neither a recipient nor any participant in the development process may commit non-HUD funds on or undertake an activity . . . if the activity or project would have an adverse environmental impact or limit the choice of reasonable alternatives.”

Granted by: Harriet Tregoning, Principal Deputy Assistance Secretary, Office of Community Planning and Development.

Date Granted: September 16, 2015.

Reason Waived: The project demonstrated it would help meet the needs of low-income seniors and seniors with disabilities for affordable housing, and that the project would not be feasible without HOME financing. Further, the recipient did not intentionally violate the regulations; no HUD funds were committed; and based on the environmental assessment and the HUD field inspection, it was concluded that granting a waiver for this project would not result in any unmitigated, adverse environmental impact. The process ensured the protection of wetlands on one end of the parcel and the protection of the senior citizens from railroad noise via a noise wall.

Contact: Lauren B. McNamara, Office of Environment and Energy, Office of Community Planning and Development, Department of Housing and Urban Development, 451 Seventh Street SW., Room 7212, Washington, DC 20410, telephone (202) 402-4466.

• Regulation: 24 CFR 91.105(c)(2).

Project/Activity: The City of Detroit, MI requested a waiver of 24 CFR 91.105(c)(2) to shorten the comment period for the use of $8.9 million in Community Development Block Grant (CDBG) Disaster Recovery and other funding that was originally appropriated for Federal Fiscal Year 2013. The funds would assist with planning and implementation costs associated with resilient projects in the Brightmoor, Mt. Elliot and McDougall-Hunt neighborhoods, stemming from August 2014 flooding damage.

Nature of Requirement: HUD's regulation 24 CFR 91.105(c)(2) requires that citizens be provided with reasonable notice and an opportunity to comment on substantial amendments to its consolidated plan. The citizen participation plan requires that citizens be given no less than 30 days to comment on substantial amendments before they are implemented. The city requested the public comment period for the substantial amendment be shortened from 30 days to 7 days. The period of time for the obligation of the funding that was originally appropriated for Federal Fiscal Year 2013 expired on September 30, 2015, under the annual appropriations act.

Granted by: Harriet Tregoning, Principal Deputy Assistant Secretary for Community Planning and Development.

Date Granted: August 25, 2015.

Reason Waived: HUD has determined that better planning and a reduced comment period would increase the pace of the city's recovery and ensure that the CDBG funds and other funding will be used effectively. Some of the $8.9 million in CDBG funds being made available to the city were appropriated in Federal Fiscal Year 2013, and the period for obligation of that funding expired on September 30, 2015. The city could not complete its citizen participation and amendment process and enter into a grant agreement before September 30th with a 30-day comment period. By granting the city's request to waive the requirement at 24 CFR 91.105(c)(2) both the city and the Department would be able to ensure the obligation of these CDBG funds prior to their expiration on September 30, 2015 and make it likely that the city will fulfill its citizen participation requirements, thereby ensuring that the congressional intent of using the funds consistent with the purposes of the Act will be achieved.

Contact: Steve Johnson, Director of Entitlement Communities Division, Office of Community Planning and Development, Department of Housing and Urban Development, 451 Seventh Street SW., Room 7282, Washington, DC 20410, telephone (202) 402-4548.

• Regulation: 24 CFR 92.500 (d)(1)(B) and 24 CFR 92.500(d)(1)(C)

Project/Activity: Jefferson Parish Consortium, LA requested a waiver of 24 CFR 92.500(d)(1)(B) and 24 CFR 92.500(d)(1)(C) to provide additional time to commit and expend its annual allocation of HOME funds in order to facilitate the ongoing recovery from the devastation caused by Hurricane Isaac.

Nature of Requirements: HUD's regulation at 24 CFR 92.500(d)(1)(B) requires a HOME participating jurisdiction to commit its annual allocation of HOME funds within 24 months after HUD notifies the participating jurisdiction that it has executed the HOME Investment Partnership Agreement. HUD's regulation at 24 CFR 92.500(d)(1)(C) requires a HOME participating jurisdiction to expend its annual allocation of HOME funds within five years after HUD notifies the participating jurisdiction that it has executed the HOME Investment Partnership Agreement.

Granted by: Harriet Tregoning, Principal Deputy Assistant Secretary, Office of Community Planning & Development.

Date Granted: July 24, 2015

Reasons Waived: As a result of Hurricane Isaac, HUD suspended the FY 2011 deadline for the commitment of HOME funds and the FY 2008 expenditure requirement. The Consortium has requested a suspension of its September 30, 2014, commitment deadline and waiver of its October 31, 2014, expenditure deadline. The Consortium currently has a commitment shortfall of $1,453,977 and an expenditure shortfall of $2,679,758. The suspension of these deadlines would enable the Consortium to retain the HOME funds otherwise subject to recapture.

Contact: Virginia Sardone, Director, Office of Affordable Housing Programs, Office of Community Planning and Development, Department of Housing and Urban Development, 451 Seventh Street SW., Washington, DC 20410-7000, telephone (202) 708-2684.

• Regulation: 24 CFR 92.500(d)(1)(C).

Project/Activity: The Commonwealth of Puerto Rico requested a waiver of 24 CFR 92.500(d)(1)(C), which requires that a participating jurisdiction expend its annual allocation of HOME Funds within five years after HUD notifies the participating jurisdiction that HUD has executed the jurisdiction's HOME Investment Partnership Agreement.

Nature of Requirement: The regulation at 24 CFR 92.500(d)(1)(C) requires HUD to reduce or recapture any HOME funds in a participating jurisdiction's (PJ's) HOME Investment Trust Fund that are not expended within five years of HUD's notification to the PJ that is has executed its HOME grant agreement. The Commonwealth failed to disburse $12,177,614 of HOME grant funds by its July 31, 2015, deadline.

Granted by: Harriet Tregoning, Principal Deputy Assistant Secretary, Office of Community Planning and Development.

Date Granted: July 24, 2015.

Reason Waived: In August and October of 2014, the Commonwealth repaid large amounts to its HOME Program Treasury Account to resolve HUD Office of Inspector General (OIG) audit findings that it expended HOME funds for ineligible expenditures. Because of the size and timing of these repayments, the Commonwealth did not have adequate time to commit the repaid funds to new affordable housing projects and expend them for costs associated with those projects. HUD granted the waiver to permit the Commonwealth additional time to expend funds on new affordable housing projects, because deobligating $12,177,614 under these circumstances would create an undue hardship of low-income residents of the Commonwealth who need standard, affordable housing.

Contact: Virginia Sardone, Director, Office of Affordable Housing Programs, Office of Community Planning and Development, Department of Housing and Urban Development, 451 Seventh Street SW., Room 7164, Washington, DC 20410, telephone (202) 708-2684.

• Regulation: 24 CFR 92.500(d)(1)(C).

Project/Activity: New Castle County, DE requested a waiver of 24 CFR 92.500(d)(1)(C), which requires that a participating jurisdiction expend its annual allocation of HOME Funds within five years after HUD notifies the participating jurisdiction that HUD has executed the jurisdiction's HOME Investment Partnership Agreement.

Nature of Requirement: The regulation at 24 CFR 92.500(d)(1)(C) requires HUD to reduce or recapture any HOME funds in a participating jurisdiction's (PJ's) HOME Investment Trust Fund that are not expended within five years of HUD's notification to the PJ that is has executed its HOME grant agreement. The County failed to disburse $412,204 of HOME grant funds by its June 30, 2015, deadline.

Granted by: Harriet Tregoning, Principal Deputy Assistant Secretary, Office of Community Planning and Development.

Date Granted: July 24, 2015.

Reason Waived: In April, 2015, the County repaid a large amount to its HOME Program Treasury Account to resolve monitoring findings related to two rental housing projects that were not completed. Because the funds were repaid just 2 months before the expenditure deadline, it was not possible for the County to commit the funds to a new affordable housing project and expend the funds for an eligible cost associated with that project. HUD granted the waiver to permit the County sufficient time to commit and expend the funds on new affordable housing projects that will serve low-income residents.

Contact: Virginia Sardone, Director, Office of Affordable Housing Programs, Office of Community and Planning Development, Department of Housing and Urban Development, 451 Seventh Street SW., Room 7164, Washington, DC 20410, telephone (202) 708-2684.

• Regulation: 24 CFR 92.500(d)(1)(C).

Project/Activity: The City of Buffalo, NY requested a waiver of 24 CFR 92.500(d)(1)(C), which requires that a participating jurisdiction expend its annual allocation of HOME funds within five years after HUD notifies the participating jurisdiction that HUD has executed the jurisdiction's HOME Investment Partnership Agreement.

Nature of Requirement: The regulation at 24 CFR 92.500(d)(1)(C) requires HUD to reduce or recapture any HOME funds in a participating jurisdiction's HOME Investment Trust Fund that are not expended within five years of HUD's notification to the participating jurisdiction that is has executed its HOME grant agreement. The City failed to disburse $3,072,861 of HOME grant funds by its June 30, 2015, deadline.

Granted by: Harriet Tregoning, Principal Deputy Assistant Secretary, Office of Community Planning and Development.

Date Granted: July 24, 2015.

Reason Waived: The City's ability to expend HOME funds was suspended for more than a year pending resolution of HUD monitoring findings. HUD granted the waiver to permit the City sufficient time to commit and expend the funds on new affordable housing projects that will serve low-income residents.

Contact: Virginia Sardone, Director, Office of Affordable Housing Programs, Office of Community Planning and Development, Department of Housing and Urban Development, 451 Seventh Street SW., Room 7164, Washington, DC 20410, telephone (202) 708-2684.

• Regulation: 24 CFR 92.500(d)(1)(C).

Project/Activity: The County of Westchester, NY requested a waiver of 24 CFR 92.500(d)(1)(C), which requires that a participating jurisdiction expend its annual allocation of HOME funds within five years after HUD notifies the participating jurisdiction that HUD has executed the jurisdiction's HOME Investment Partnership Agreement.

Nature of Requirement: The regulation at 24 CFR 92.500(d)(1)(C) requires HUD to reduce or recapture any HOME funds in a participating jurisdiction's HOME Investment Trust Fund that are not expended within five years of HUD's notification to the participating jurisdiction that is has executed its HOME grant agreement. The County failed to disburse $141,723 of HOME grant funds by its July 31, 2014, deadline.

Granted by: Harriet Tregoning, Principal Deputy Assistant Secretary, Office of Community Planning and Development.

Date Granted: July 24, 2015.

Reason Waived: In April, 2014, the County repaid a large sum of HOME funds to its HOME Program Treasury Account and did not have adequate time to expend these funds on new affordable housing projects. Because the funds were repaid just 2 months before the expenditure deadline, it was not possible for the County to commit the funds to a new affordable housing project and expend the funds for an eligible cost associated with that project. HUD granted the waiver to permit the County sufficient time to commit and expend the funds on new affordable housing projects that will serve low-income residents.

Contact: Virginia Sardone, Director, Office of Affordable Housing Programs, Office of Community Planning and Development, Department of Housing and Urban Development, 451 Seventh Street SW., Room 7164, Washington, DC 20410, telephone (202) 708-2684.

• Regulation: 24 CFR 570.200(g).

Project/Activity: The City of Detroit, MI requested a waiver of 24 CFR 570.200(g) to allow more than 20 percent of Community Development Block Grant funds to be used to assist with planning costs associated with resilient projects in the Brightmoor, Mt. Elliot and McDougall-Hunt neighborhoods, stemming from August 2014 flooding damage.

Nature of Requirement: HUD's regulation at 24 CFR 570.200(g) (Limitation on planning and administrative costs) provides that no more than 20 percent of the sum of any grant, plus program income, shall be expended for planning and program administrative costs, as defined in §§ 570.205 and 507.206, respectively. Recipients shall conform with this requirement by limiting the amount of CDBG funds obligated for planning plus administration during each program year to an amount no greater than 20 percent of the sum of its entitlement grant made for that program year (if any) plus the program income received by the recipient and its subrecipients (if any) during that program year.

Granted by: Harriet Tregoning, Principal Deputy Assistant Secretary for Community Planning and Development.

Date Granted: August 25, 2015.

Reason Waived: HUD determined that better planning would increase the pace of the city's recovery and ensure that financial resources such as CDBG-DR funding will be used effectively. By granting the city's request to waive the requirements at § 570.200(g) the city would be able to carry out specific planning activities that would have a more immediate impact on the disaster-affected areas. In addition, the focus on the use of the CDBG funds for pre-development costs is consistent with the Federal Government's Build America initiative, a component of which is encouraging grantees to use CDBG funds to promote infrastructure development.

Contact: Steve Johnson, Director of Entitlement Communities Division, Office of Community Planning and Development, Department of Housing and Urban Development, 451 Seventh Street SW., Room 7282, Washington, DC 20410, telephone (202) 402-4548.

II. Regulatory Waivers Granted by the Office of Housing

For further information about the following regulatory waivers, please see the name of the contact person that immediately follows the description of the waiver granted.

• Regulation: 24 CFR 219.220(b).

Project/Activity: Cooper Road Plaza Apartments, FHA Project Number 064-35418, Shreveport, LA. Post 525 Cooper Road Plaza, Incorporated (owner) seeks approval to defer repayment of the Flexible Subsidy Operating Assistance Loans on the subject project.

Nature of Requirement: The regulation at 24 CFR 219.220(b) (1995), which governs the repayment of operating assistance provided under the Flexible Subsidy Program for Troubled Properties, states “Assistance that has been paid to a project Owner under this subpart must be repaid at the earlier of the expiration of the term of the mortgage, termination of mortgage insurance, prepayment of the mortgage, or a sale of the project.”

Granted by: Edward L. Golding, Principal Deputy Assistant Secretary for Housing.

Date Granted: July 2, 2015.

Reason Waived: The owner requested and was granted waiver of the requirement to defer repayment of the Flexible Subsidy Operating Assistance Loan. Deferring the loan payment will preserve this affordable housing resource for an additional 20 years through the execution and recordation of a Rental Use Agreement.

Contact: Kimberly Britt, Account Executive, Office of Housing, Department of Housing and Urban Development, 451 Seventh Street SW., Room 6178, Washington, DC 20410, telephone (202) 402-7576.

• Regulation: 24 CFR 219.220(b).

Project/Activity: Knights of St. John, FHA Project Number 083-35017T, Louisville, KY; KSJ Corporation of Louisville, Kentucky (Owner) seeks approval to defer repayment of the Flexible Subsidy Operating Assistance Loan on the project.

Nature of Requirement: The regulation at 24 CFR 219.220(b)(1995), which governs the repayment of operating assistance provided under the Flexible Subsidy Program for Troubled Properties, states “Assistance that has been paid to a project Owner under this subpart must be repaid at the earlier of the expiration of the term of the mortgage, termination of mortgage insurance, prepayment of the mortgage, or a sale of the project.”

Granted by: Edward L. Golding, Principal Deputy Assistant Secretary for Housing.

Date Granted: July 17, 2015.

Reason Waived: The owner requested and was granted waiver of the requirement to defer repayment of the Flexible Subsidy Operating Assistance Loan. Deferring the loan payment will preserve this affordable housing resource for an additional 20 years through the execution and recordation of a Rental Use Agreement.

Contact: Marilynne Hutchins, Account Executive, Office of Housing, Department of Housing and Urban Development, 451 Seventh Street SW., Room 6174, Washington, DC 20410, telephone (202) 402-4323.

Regulation: 24 CFR 219.220(b).

Project/Activity: Smith Tower, FHA Project Number: 126-SH009, Vancouver, WA; Mid-Columbia Manor, Incorporated seeks approval to defer repayment of the Flexible Subsidy Operating Assistance Loan

Nature of Requirement: The regulation at 24 CFR 219.220(b)(1995), which governs the repayment of operating assistance provided under the Flexible Subsidy Program for Troubled Projects states, “Assistance that has been paid to a project Owner under this subpart must be repaid at the earlier of expiration of the term of the mortgage, termination of mortgage insurance, prepayment of the mortgage, or a sale of the project.”

Granted by: Edward L. Golding, Principal Deputy Assistant Secretary for Housing.

Date Granted: July 28, 2015.

Reason Waived: The owner requested and was granted waiver of the requirement to defer repayment of the Flexible Subsidy Operating Assistance Loan. Deferring the loan payment will preserve this affordable housing resource for an additional 20 years through the execution and recordation of a Rental Use Agreement.

Contact: Kimberly Britt, Account Executive, Office of Housing, Department of Housing and Urban Development, 451 Seventh Street SW., Room 6174, Washington, DC 20410, telephone (202) 402-7576.

• Regulation: 24 CFR 219.220(b).

Project/Activity: Canterbury House, FHA Project Number 0540SH001, Charleston, SC; Episcopal Diocesan Housing, Incorporated seeks approval to defer repayment of the Flexible Subsidy Operating Assistance Loan.

Nature of Requirement: The regulation at 24 CFR 219.220(b)(1995), which governs the repayment of operating assistance provided under the Flexible Subsidy Program for Troubled Projects states, “Assistance that has been paid to a project Owner under this subpart must be repaid at the earlier of expiration of the term of the mortgage, termination of mortgage insurance, prepayment of the mortgage, or a sale of the project.”

Granted by: Edward L. Golding, Principal Deputy Assistant Secretary for Housing.

Date Granted: July 28, 2015.

Reason Waived: The owner requested and was granted waiver of the requirement to defer repayment of the Flexible Subsidy Operating Assistance Loan. Deferring the loan payment will preserve this affordable housing resource for an additional 20 years through the execution and recordation of a Rental Use Agreement.

Contact: Frank Tolliver, Account Executive, Office of Housing, Department of Housing and Urban Development, 451 Seventh Street SW., Room 6174, Washington, DC 20410, telephone (202) 402-3821.

• Regulation: 24 CFR 219.220(b) (1995).

Project/Activity: Berrien Homes is a 160-unit project located in Benton Harbor, MI (FHA-023-071N1) that is being purchased by Berrien Homes Limited Dividend Housing Association Limited Partnership. The project consists of 15 one-bedroom units, 45 two-bedroom units, 60 three-bedroom units, and 40 four-bedroom units. The 30 year mortgage was insured pursuant to FHA 223(a)(7) which was a refinance of Section 236 of the National Housing Act and was endorsed on August 27, 2010, in the amount of $455,400 at 6.25 percent interest. The Flexible Subsidy Operating Assistance Loan was awarded in 1987 in the amount of $2,964,600 with 1 percent non-compounding annual interest. As of December 2014, the accrued interest was $796,546. The 2010 Mark to Market (M2M) transaction subordinated the Flexible Subsidy Note to the FHA Insured first mortgage, the HUD-held Mortgage Restructuring Note and the Green Retrofit Loan, and made it due and payable upon a sale of the Property or the prepayment of the M2M originated debt. The purchaser requested the re-subordination of the Flexible Subsidy Loan for a new 30-year term to facilitate the transaction.

Nature of Requirement: The regulation at 24 CFR 219.220(b)(1995), which governs the repayment of operating assistance provided under the Flexible Subsidy Program for Troubled Projects states “Assistance that has been paid to a project owner under this subpart must be repaid at the earlier of expiration of the term of the mortgage, termination of mortgage insurance, prepayment of the mortgage, or a sale of the project (Transfer of Physical Assets (TPA)) if the Secretary so requires at the time of approval of the TPA.”.

Granted by: Edward T. Golding, Principal Deputy Assistant Secretary for Housing-Federal Housing Commissioner.

Date Granted: August 13, 2015.

Reason Waived: The owner requested and was granted waiver of the requirement to defer repayment of the Flexible Subsidy Operating Assistance Loan to allow the much needed preservation and moderate rehabilitation of the project. The project will be preserved as an affordable housing resource of Benton Harbor, MI.

Contact: Patricia M. Burke, Acting Branch Chief, Office of Recapitalization, Office of Housing, Department of Housing and Urban Development, 451 Seventh Street SW., Room 6230, Washington, DC 20410, telephone (202) 402-3460.

• Regulation: 24 CFR 219.220(b).

Project/Activity: Tubman Towers, FHA Project No. 043-35034T, Springfield, Ohio; Lutheran Social Services of Central Ohio Tubman Towers seeks approval to defer repayment of the Flexible Subsidy Operating Assistance Loan.

Nature of Requirement: The regulation at 24 CFR 219.220(b) (1995), which governs the repayment of operating assistance provided under the Flexible Subsidy Program for Troubled Projects states, “Assistance that has been paid to a project Owner under this subpart must be repaid at the earlier of expiration of the term of the mortgage, termination of mortgage insurance, prepayment of the mortgage, or a sale of the project.”

Granted by: Edward T. Golding, Principal Deputy Assistant Secretary for Housing-Federal Housing Commissioner.

Date Granted: August 14, 2015.

Reason Waived: The owner requested and was granted waiver of the requirement to defer repayment of the Flexible Subsidy Operating Assistance Loan when it became due upon the project's mortgage maturity. Deferring the loan payment will preserve this affordable housing resource for an additional 35 years through the execution and recordation of a Rental Use Agreement.

Contact: James Wyatt, Account Executive, Office of Housing, Department of Housing and Urban Development, 451 Seventh Street SW., Room 6172, Washington DC 20410, telephone (202) 402-2519.

• Regulation: 24 CFR 232.7.

Project/Activity: Oak Creek Alzheimer & Dementia Care Center (FHA No. 121-22178) is a memory care facility. The facility does not meet the requirements of 24 CFR 232.7 “Bathroom” of FHA's regulations. The project is located in Castro Valley, CA.

Nature of Requirement: The regulation mandates in a board and care home or assisted living facility that the not less than one full bathroom must be provided for every four residents. Also, the bathroom cannot be accessed from a public corridor or area.

Granted by: Edward T. Golding, Principal Deputy Assistant Secretary for Housing-Federal Housing Commissioner.

Date Granted: June 4, 2015.

Reason Waived: The project is for memory care, all rooms have half-bathrooms and the resident to full bathroom ratio is 9.5: 1. The project meets the State of California's licensing requirements for bathing and toileting facilities.

Contact: Vance T. Morris, Operations Manager, Office of Healthcare Programs, Office of Housing, Department of Housing and Urban Development, 451 Seventh Street SW., Room 2337, Washington, DC 20401, telephone (202) 402-2419.

• Regulation: 24 CFR 266.200(b)(2).

Project/Activity: Federal Financing Bank (FFB) Risk Sharing Initiative, Substantial Rehabilitation Defined. Housing Opportunities Commission (HOC) of Montgomery County, Maryland.

Nature of Requirement: HUD's regulation at 24 CFR 266.200(b)(2) defines substantial rehabilitation as any combination of covered work to the existing facilities of a project that aggregates to at least 15 percent of project's value after the rehabilitation and that results in material improvement of the project's economic life, livability, marketability, and profitability. Covered work includes replacement, alteration and/or modernization of building spaces, long-lived building or mechanical system components, or project facilities. The following changes apply to both Level I and II Housing Finance Agencies Definition of Substantial Rehabilitation (S/R) revised as: work that exceeds either: a) $15,000 times the high cost factor “as adjusted by HUD for inflation”, or b) replacement of two or more building systems. 'Replacement' is when cost of replacement work exceeds 50 percent of the cost of replacing the entire system. The base limit is revised to $15,000 per unit for 2015, and will be adjusted annually based on the percentage change published by the Consumer Financial Protection Bureau, or other inflation cost index published by HUD. This is consistent with proposed changes in MAP Guide.

Granted by: Edward T. Golding, Principal Deputy Assistant Secretary for Housing-Federal Housing Commissioner.

Date Granted: August 26, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(b)(2).

Project/Activity: Federal Financing Bank (FFB) Risk Sharing Initiative, Substantial Rehabilitation Defined. Minnesota Housing Finance Agency (MHFA).

Nature of Requirement: HUD's regulation at 24 CFR 266.200(b)(2) defines substantial rehabilitation as any combination of covered work to the existing facilities of a project that aggregates to at least 15 percent of project's value after the rehabilitation and that results in material improvement of the project's economic life, livability, marketability, and profitability. Covered work includes replacement, alteration and/or modernization of building spaces, long-lived building or mechanical system components, or project facilities. The following changes apply to both Level I and II Housing Finance Agencies Definition of Substantial Rehabilitation (S/R) revised as: work that exceeds either: a) $15,000 times the high cost factor “as adjusted by HUD for inflation”, or b) replacement of two or more building systems. 'Replacement' is when cost of replacement work exceeds 50 percent of the cost of replacing the entire system. The base limit is revised to $15,000 per unit for 2015, and will be adjusted annually based on the percentage change published by the Consumer Financial Protection Bureau, or other inflation cost index published by HUD. This is consistent with proposed changes in MAP Guide.

Granted by: Edward L. Golding, Principal Deputy Assistant Secretary for Housing.

Date Granted: September 22, 2015.

Reason Waived: The waiver was necessary to effectuate the Federal Financing Bank (FFB) Risk Sharing Initiative between Housing and Urban Development and the Treasury Department/FFB announced in Fiscal Year 2014. The waivers are consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(c)(2).

Project/Activity: Federal Financing Bank (FFB) Risk Sharing Initiative, Equity Take-Outs. Housing Opportunities Commission (HOC) of Montgomery County, Maryland

Nature of Requirement: HUD's regulation at 24 CFR 266.200(c)(2) allows existing projects to be refinanced if certain criteria are met. If the property is subject to an HFA financed loan to be refinanced and such refinancing will result in the preservation of affordable housing, refinancing of these properties is permissible if project occupancy is not less than 93 percent (to include consideration of rent in arrears), based on the average occupancy in the project over the most recent 12 months, and the mortgage does not exceed an amount supportable by the lower of the unit rents being collected under the rental assistance agreement or the unit rents being collected at unassisted projects in the market area that are similar in amenities and location to the project for which insurance is being requested. The HUD-insured mortgage may not exceed the sum of the existing indebtedness, cost of refinancing, the cost of repairs and reasonable transaction costs as determined by the Commissioner. If a loan to be refinanced has been in default within the 12 months prior to application for refinancing, the HFA must assume not less than 50 percent of the risk. Equity take-outs for existing projects (refinance transactions) permit the insured mortgage to exceed the sum of the total cost of acquisition, cost of financing, cost of repairs, and reasonable transaction costs or “equity take-outs” in refinances of HFA-financed projects and those outside of HFA's portfolio if the result is preservation with the following conditions: (1) Occupancy is no less than 93 percent for previous 12 months; (2) no defaults in the last 12 months of the HFA loan to be refinanced; (3) a 20 year affordable housing deed restriction placed on title that conforms to the 542(c) statutory definition; (4) a Capital Needs Assessment (CNA) must be performed and funds escrowed for all necessary repairs, and reserves funded for future capital needs; and (5) for projects subsidized by Section 8 Housing Assistance Payment (HAP) contracts, the Owner agrees to renew HAP contract(s) for 20 year term, (subject to appropriations and statutory authorization, etc.), and existing and post-refinance HAP residual receipts are set aside to be used to reduce future HAP payments.

Granted by: Edward T. Golding, Principal Deputy Assistant Secretary for Housing-Federal Housing Commissioner.

Date Granted: August 26, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Washington, DC 20410, telephone (202) 402-8386.

• Regulation: 24 CFR 266.200(c)(2).

Project/Activity: Federal Financing Bank (FFB) Risk Sharing Initiative, Equity Take-Outs. Minnesota Housing Finance Agency (MHFA).

Nature of Requirement: HUD's regulation at 24 CFR 266.200(c)(2) allows existing projects to be refinanced if certain criteria are met. If the property is subject to an HFA financed loan to be refinanced and such refinancing will result in the preservation of affordable housing, refinancing of these properties is permissible if project occupancy is not less than 93 percent (to include consideration of rent in arrears), based on the average occupancy in the project over the most recent 12 months, and the mortgage does not exceed an amount supportable by the lower of the unit rents being collected under the rental assistance agreement or the unit rents being collected at unassisted projects in the market area that are similar in amenities and location to the project for which insurance is being requested. The HUD-insured mortgage may not exceed the sum of the existing indebtedness, cost of refinancing, the cost of repairs and reasonable transaction costs as determined by the Commissioner. If a loan to be refinanced has been in default within the 12 months prior to application for refinancing, the HFA must assume not less than 50 percent of the risk. Equity take-outs for existing projects (refinance transactions) permit the insured mortgage to exceed the sum of the total cost of acquisition, cost of financing, cost of repairs, and reasonable transaction costs or “equity take-outs” in refinances of HFA-financed projects and those outside of HFA's portfolio if the result is preservation with the following conditions: (1) Occupancy is no less than 93% for previous 12 months; (2) no defaults in the last 12 months of the HFA loan to be refinanced; (3) a 20 year affordable housing deed restriction placed on title that conforms to the 542(c) statutory definition; (4) a Capital Needs Assessment (CNA) must be performed and funds escrowed for all necessary repairs, and reserves funded for future capital needs; and (5) for projects subsidized by Section 8 Housing Assistance Payment (HAP) contracts, the Owner agrees to renew HAP contract(s) for 20 year term, (subject to appropriations and statutory authorization, etc.), and existing and post-refinance HAP residual receipts are set aside to be used to reduce future HAP payments.

Granted by: Edward T. Golding, Principal Deputy Assistant Secretary for Housing-Federal Housing Commissioner.

Date Granted: September 22, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(d).

Project/Activity: Federal Financing Bank (FFB) Risk Sharing Initiative, Underwriting of Projects with Section 8 HAP Contracts. Housing Opportunities Commission (HOC) of Montgomery County, Maryland

Nature of Requirement: HUD's regulation at 24 CFR 266.200(d) allows projects receiving project-based assistance under section 8 of the U.S. Housing Act of 1937 or other rental subsidies to be incurred only if the mortgage does not exceed an amount supportable by the lower of the unit rents being or to be collected under the rental assistance agreement or the unit rents being collected at unassisted projects in the market that are similar in amenities and location to the project. For refinancing of Section 202 projects, and for Public Housing Authority (PHA) projects converting to Section 8 through RAD, the Department permitted HOC to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted by: Edward T. Golding, Principal Deputy Assistant Secretary for Housing-Federal Housing Commissioner.

Date Granted: September 22, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(d).

Project/Activity: Federal Financing Bank (FFB) Risk Sharing Initiative, Underwriting of Projects with Section 8 HAP Contracts. Minnesota Housing Finance Agency (MHFA).

Nature of Requirement: HUD's regulation at 24 CFR 266.200(d) allows projects receiving project-based assistance under section 8 of the U.S. Housing Act of 1937 or other rental subsidies to be incurred only if the mortgage does not exceed an amount supportable by the lower of the unit rents being or to be collected under the rental assistance agreement or the unit rents being collected at unassisted projects in the market that are similar in amenities and location to the project. For refinancing of Section 202 projects, and for Public Housing Authority (PHA) projects converting to Section 8 through RAD, the Department permitted MHFA to underwrite the financing using current or to be adjusted project-based Section 8 assisted rents, even though they exceed the market rates. This is consistent with HUD Housing Notice 04-21, “Amendments to Notice 02-16: Underwriting Guidelines for Refinancing of Section 202, and Section 202/8 Direct Loan Repayments”, which grants authority only to those lenders refinancing with mortgage programs under the National Housing Act.

Granted by: Edward T. Golding, Principal Deputy Assistant Secretary for Housing-Federal Housing Commissioner.

Date Granted: September 22, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.620(e).

Project/Activity: Federal Financing Bank (FFB) Risk Sharing Initiative, Termination of Mortgage Insurance. Housing Opportunities Commission (HOC) of Montgomery County, Maryland.

Nature of Requirement: HUD's regulation at 24 CFR 266.620(e) requires termination of the Contract of Insurance if the HFA or its successors commit fraud or make a material misrepresentation to the Commissioner with respect to information culminating in the Contract of Insurance on the mortgage or while the Contract of Insurance is in existence. As required by the Initiative, Housing Opportunities Commission (HOC) of Montgomery County, Maryland agreed to indemnify HUD for all amounts paid to FFB if “the HFA or its successors commit fraud, or make a material misrepresentation to the Commissioner with respect to information culminating in the Contract of Insurance on the mortgage, or while the Contract of Insurance is in existence”. Only Level I HFAs are eligible for FFB financing, thereby ensuring the HFA maintains financial capacity to perform under the indemnification agreement.

Granted by: Edward T. Golding, Principal Deputy Assistant Secretary for Housing-Federal Housing Commissioner.

Date Granted: August 26, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.620(e).

Project/Activity: Federal Financing Bank (FFB) Risk Sharing Initiative, Termination of Mortgage Insurance. Minnesota Housing Finance Agency (MHFA).

Nature of Requirement: HUD's regulation at 24 CFR 266.620(e) requires termination of the Contract of Insurance if the HFA or its successors commit fraud or make a material misrepresentation to the Commissioner with respect to information culminating in the Contract of Insurance on the mortgage or while the Contract of Insurance is in existence. As required by the Initiative, Minnesota Housing Finance Agency agrees to indemnify or otherwise reimburse HUD in a manner acceptable to the Commissioner for all amounts paid to FFB if “the HFA or its successors commit fraud, or make a material misrepresentation to the Commissioner with respect to information culminating in the Contract of Insurance on the mortgage, or while the Contract of Insurance is in existence”. MHFA is not permitted to indemnify HUD under current Minnesota law, and provided an opinion letter from its Office of the Attorney General to that effect. However, MHFA agrees to reimburse HUD for amounts paid by HUD to FFB. In addition, MHFA will pay HUD any related costs and collection fees as ordered by a court of competent jurisdiction.

Only Level I HFAs are eligible for FFB financing, thereby ensuring the HFA maintains financial capacity to perform under the indemnification agreement.

Granted by: Edward T. Golding, Principal Deputy Assistant Secretary for Housing-Federal Housing Commissioner.

Date Granted: September 22, 2015.

Reason Waived: The waiver was necessary to effectuate the Federal Financing Bank (FFB) Risk Sharing Initiative between Housing and Urban Development and the Treasury Department/FFB announced in Fiscal Year 2014. The waiver is consistent with changes Multifamily is seeking now to the regulation and as previously approved in March 2015 for the first 11 HFAs participating in the Initiative. Under this Initiative, FFB provides capital to participating Housing Finance Agencies (HFAs) to make multifamily loans insured under the FHA Multifamily Risk Sharing Program.

Contact: Theodore K. Toon, Director, FHA Multifamily Production, Office of Multifamily Housing Programs, Office of Production, Office of Housing, Department of Housing and Urban Development, 451 Seventh Street SW., Room 6134, Washington, DC 20410, telephone (202) 402-8386.

• Regulation: 24 CFR 266.200(g).

Project/Activity: California Housing Finance Agency (CalHFA), Ocean View Senior Apartments, Pacifica, California.

Nature of Requirement: HUD's regulation at 24 CFR 266.200(g) defines an Elderly Project as “Projects or parts of projects specifically designed for the use and occupancy by elderly families.” This regulatory section also provides that “An elderly family means any household where the head or spouse is 62 years of age or older, and also and single person who is 62 years of age or older.”

Granted by: Edward T. Golding, Principal Deputy Assistant Secretary for Housing-Federal Housing Commissioner.

Date Granted: September 29, 2015.

Reason Waived: Ocean View Apartment is an existing 100-unit senior housing apartment community located in Pacifica, California, constructed in 1973. Originally financed by a HUD mortgage and operated as affordable senior housing, the former owner prepaid the mortgage in 2000 and had plans to displace resident and convert the Project to market rate housing. CalHFA has asked to be allowed to finance the Project under the Risk Sharing Program restricted to elderly families as defined in the Risk Sharing regulation, with an exception for the approximately 20 existing underage households who currently reside in the Project. In order to protect these low-income households from being forced to relocate, CalHFA sites the Francisco Bay Area as the extraordinarily high cost area to live with few other affordable senior communities where these underage low-income residents might find housing. CalHFA has requested that they be permitted to remain in residence at the Project. As these younger households move out, or their members become 62, all units will be occupied by a head of household age 62 or older, but not prohibit occupancy based exclusively on age by other family members less than age 62, including children under age 18 in accordance with the requirements of 24CFR Part 266.

Contact: Theodore K. Toon, Director, FHA Multifamily Production, Office of Multifamily Housing Programs, Office of Production, Department of Housing and Urban Development, 451 Seventh Street SW., Room 6134, Washington, DC 20410, telephone (202) 402-8386.

• Regulation: 24 CFR 891.165.

Project/Activity: Pollywog Creek Senior Housing, Labelle, FL, Project Number: 066-EE120/FL29-S101-006.

Nature of Requirement: Section 891.165 provides that the duration of the fund reservation of the capital advance is 18 months from the date of issuance with limited exceptions up to 24 months, as approved by HUD on a case-by-case basis.

Granted by: Edward L. Golding, Principal Deputy Assistant Secretary for Housing-Federal Housing Commissioner.

Date Granted: July 2, 2015.

Reason Waived: Delays occurred due to issues with the sale of the land, amendment of some easements through several governmental entities, and additional time is needed for the project to initially close.

Contact: Alicia Anderson, Director, Branch Chief, Grants and New Funding, Office of Housing, Department of Housing and Urban Development, 451 Seventh Street SW., Room 6138, Washington, DC 20410, telephone (202) 402-5787.

• Regulation: 24 CFR 891.165.

Project/Activity: Montclair 4, Montclair, CA, Project Number: 143-HD018/CA43-Q091-001.

Nature of Requirement: Section 891.165 provides that the duration of the fund reservation of the capital advance is 18 months from the date of issuance with limited exceptions up to 24 months, as approved by HUD on a case-by-case basis.

Granted by: Edward L. Golding, Principal Deputy Assistant Secretary for Housing-Federal Housing Commissioner.

Date Granted: July 2, 2015.

Reason Waived: Additional time was needed for review of the closing documents, the Office of General Counsel to schedule the closing, and for the project to achieve an initial closing.

Contact: Alicia Anderson, Branch Chief, Grants and New Funding, Office of Housing, Department of Housing and Urban Development, 451 Seventh Street SW., Room 6138, Washington, DC 20410, telephone (202) 402-5787.

• Regulation: 24 CFR 891.100(d).

Project/Activity:Jefferson Commons, New London, CT, Project Number: 017-HD047/CT26-Q101-001;

Nature of Requirement: Section 891.100(d) prohibits amendment of the amount of the approved capital advance funds prior to closing.

Granted by: Edward L. Golding, Principal Deputy Assistant Secretary for Housing-Federal Housing Commissioner.

Date Granted: July 14, 2015.

Reason Waived: The project is economically designed and comparable in cost to similar projects in the area, and the sponsor/owner exhausted all efforts to obtain additional funding from other sources.

Contact: Alicia Anderson, Branch Chief, Grants and New Funding, Office of Housing, Department of Housing and Urban Development, 451 Seventh Street SW., Room 6138, Washington, DC 20410, telephone (202) 402-5787.

• Regulation:24 CFR 891.165.

Project/Activity: H. Fletcher Brown, Wilmington, DE, Project Number: 032-EE024/DE26-S101-001.

Nature of Requirement: Section 891.165 provides that the duration of the fund reservation of the capital advance is 18 months from the date of issuance with limited exceptions up to 24 months, as approved by HUD on a case-by-case basis.

Granted by: Edward L. Golding, Principal Deputy Assistant Secretary for Housing-Federal Housing Commissioner.

Date Granted: September 14, 2015.

Reason Waived: Additional time was needed to begin the firm commitment application.

Contact: Alicia Anderson, Branch Chief, Grants and New Funding, Office of Housing, Department of Housing and Urban Development, 451 Seventh Street SW., Room 6138, Washington, DC 20410, telephone (202) 402-5787.

• Regulation: 24 CFR 891.165.

Project/Activity: J. Michael Fitzgerald Apartments, Chicago, IL, Project Number: 071-EE255/IL06-S101-016.

Nature of Requirement: Section 891.165 provides that the duration of the fund reservation of the capital advance is 18 months from the date of issuance with limited exceptions up to 24 months, as approved by HUD on a case-by-case basis.

Granted by: Edward L. Golding, Principal Deputy Assistant Secretary for Housing-Federal Housing Commissioner.

Date Granted: September 22, 2015.

Reason Waived: Additional time was needed to process the firm commitment package for this mixed finance project.

Contact: Alicia Anderson, Branch Chief, Grants and New Funding, Department of Housing and Urban Development, 451 Seventh Street SW., Room 6138, Washington, DC 20410, telephone (202) 402-5787.

III. Regulatory Waivers Granted by the Office of Public and Indian Housing

For further information about the following regulatory waivers, please see the name of the contact person that immediately follows the description of the waiver granted.

• Regulation: 24 CFR 5.801(d)(1).

Project/Activity: Brown County Housing Authority (KS168).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: July 28, 2015.

Reason Waived: The housing authority is a Section 8 only and nonprofit entity and its program year end and fiscal year end are not the same, which caused scheduling issues and adversely affected the timing of submission of the audited financial statement. On the basis of this information, the housing authority was granted until August 31, 2015 to complete and submit the audited financial statement.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 5.801(d)(1).

Project/Activity: Gary Housing Authority (IN011).

Nature of Requirement: The regulation establishes certain reporting compliance dates. The audited financial statements are required to be submitted to the Real Estate Assessment Center (REAC) no later than nine months after the housing authority's (HA) fiscal year end (FYE), in accordance with the Single Audit Act and OMB Circular A-133.

Granted By: Lourdes Castro Ramírez, Principal Deputy Assistant Secretary for Public and Indian Housing.

Date Granted: August 10, 2015.

Reason Waived: The housing authority requested a waiver of its audited financial data submission and the financial indicator scoring thresholds under the Public Housing Assessment System (PHAS) on the basis that its leadership has changed almost annually making it very difficult to timely meet deadlines. The housing authority advised that its newly hired Executive Director was working diligently to address the operational challenges of the housing authority and needed a little more time to complete and submit the financial statement.

Contact: Dee Ann R. Walker, Acting Program Manager, NASS, Real Estate Assessment Center, Office of Public and Indian Housing, Department of Housing and Urban Development, 550 12th Street SW., Suite 100, Washington, DC 20410, telephone (202) 475-7908.

• Regulation: 24 CFR 905.314.

Project/Activity: Flint Housing Commission (FHC) requested a good cause waiver to transfer 35 percent of its 2015 Capital Fund Formula Grant into BLI 1406-Operations, in part to fund certain anticrime measures.

Nature of Requirement: Public housing agencies (PHAs) may use Operating Funds for anticrime and antidrug activities, including costs of providing adequate security for public housing residents, including above-baseline service agreements. HUD's Fiscal Year 2015 appropriations allows HUD, through waiver, to use Capital Funds for this Operating Fund activity. (See Public Law 113-235, 128 Stat. 2130, approved December 16, 2015, at 128 Stat. 2734-2735.)

Granted By: Lourdes Castro Ramírez, Principal Deputy Assistant Secretary for Public and Indian Housing.

Date Granted: June 16, 2015.

Reason Waived: Flint Housing Commission's letter of May 2015 included all the information provided by the Capital Fund Processing Guidance to make a good cause determination. Specifically, FHC requested $583, 513 to be transferred to Budget Line Item 1460 for Operations. FHC provided recent crime data at the developments and indicated the specific activities for which it plans to use the funds.

Contact: Dominique Blom, Deputy Assistant Secretary for the Office of Public Housing Investments, Office of Public and Indian Housing, Department of Housing and Urban Development, 451 7th Street SW., Room 4130, Washington, DC 20140, telephone (202) 402-4181.

• Regulation: 24 CFR 982.503(a)(3).

Project/Activity: Housing Authority of the County of Los Angeles (HACoLA), Los Angeles, CA.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: July 2, 2015.

Reason Waived: HACLA sought to establish a different payment standard schedule at 110 percent of the FMR for participants in its HUD-VASH program because HUD-VASH families are traditionally more difficult to house and affordable housing is in short supply.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3).

Project/Activity: Housing Authority of the City of Los Angeles (HACLA), Los Angeles, CA.

Nature of Requirement: HUD's regulation at 24 CFR 982.503(a)(3) states that the PHA's voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: August 4, 2015.

Reason Waived: HACLA sought to establish a different payment standard schedule at 120 percent of the 2015 FMRs for participants in its HUD-VASH program because HUD-VASH families are traditionally more difficult to house and affordable housing is in short supply.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3).

Project/Activity: Home Forward (HF), Portland, OR.

Nature of Requirement: HUD's regulation at 4 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: August 4, 2015.

Reason Waived: HF sought to establish a different payment standard schedule at 120 percent of the 2015 FMRs for participants in its HUD-VASH program because HUD-VASH families are traditionally more difficult to house and affordable housing is in short supply.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3).

Project/Activity: Linn-Benton Housing Authority (LBHA), Albany, OR.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: August 12, 2015.

Reason Waived: LBHA sought to establish a different payment standard schedule at 120 percent of the 2015 FMRs for participants in its HUD-VASH program because HUD-VASH families are traditionally more difficult to house and affordable housing is in short supply.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3).

Project/Activity: San Francisco Housing Authority (SFHA), San Francisco, CA.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: August 13, 2015.

Reason Waived: SFHA sought to establish a different payment standard schedule at 120 percent of the 50th percentile 2015 FMRs for participants in its HUD-VASH program occupying single-room occupancy, zero-, and one-bedroom units and 100 percent of the 50th percentile FMRs for all other bedroom sizes because HUD-VASH families are traditionally more difficult to house and affordable housing in the unit sizes noted above are in short supply.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.503(a)(3).

Project/Activity: Fort Collins Housing Authority (FCHA), Fort Collins, CO.

Nature of Requirement: HUD's regulation at 24 CFR 982.503(a)(3) states that the public housing agency's (PHA) voucher payment standard schedule shall establish a single payment standard amount for each unit size. For each unit size, the PHA may establish a single payment standard amount for the whole fair market rent (FMR) area, or may establish a separate payment standard amount for each designated part of the FMR area.

Granted By: Lourdes Castro Ramírez, Principal Deputy Assistant Secretary for Public and Indian Housing.

Date Granted: September 16, 2015.

Reason Waived: FCHA sought to establish a different payment standard schedule at 120 percent of the 50th percentile 2015 FMRs for participants in its HUD-VASH program occupying one- and two-bedroom units since these units are traditionally more difficult to find.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Bellingham/Whatcom County Housing Authorities (BWCHA), Bellingham, WA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: July 28, 2015.

Reason Waived: The participant, who is a person with disabilities, required an exception payment standard to move to a new unit where 24-hour services and care givers are provided. To provide this reasonable accommodation so that the client could move to this new unit and pay no more than 40 percent of his adjusted income toward the family share, the BWCHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: July 29, 2015.

Reason Waived: The applicant, who was a homeless veteran with disabilities, required an exception payment standard to move to a unit that met his needs. To provide this reasonable accommodation so that the client could move into this current unit and pay no more than 40 percent of his adjusted income toward the family share, the SFHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted by: Lourdes Castro Ramírez, Principal Deputy Assistant Secretary for Public and Indian Housing.

Date Granted: August 4, 2015.

Reason Waived: The participant, who is a person with disabilities, required an exception payment standard to remain in her current unit that meets her needs without becoming rent burdened. To provide this reasonable accommodation so that the client could remain in this unit and pay no more than 40 percent of her adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410; telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted by: Lourdes Castro Ramírez, Principal Deputy Assistant Secretary for Public and Indian Housing.

Date Granted: August 4, 2015.

Reason Waived: The participant, who is a person with disabilities, required an exception payment standard to remain in her current unit that meets her needs without becoming rent burdened. To provide this reasonable accommodation so that the client could remain in this unit and pay no more than 40 percent of her adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: August 4, 2015.

Reason Waived: The participant, who is a person with disabilities, required an exception payment standard to remain in her current unit that meets her needs without becoming rent burdened. To provide this reasonable accommodation so that the client could remain in this unit and pay no more than 40 percent of her adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: City of Roseville Housing Authority (CRHA), Roseville, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: August 4, 2015.

Reason Waived: The participant, who is disabled, required an exception payment standard to remain in his unit without being rent burdened. To provide this reasonable accommodation so that the client could remain in his current unit and pay no more than 40 percent of adjusted income toward the family share, CRHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: August 4, 2015.

Reason Waived: The participant, who is a person with disabilities, required an exception payment standard to remain in his current unit that meets his needs without becoming rent burdened. To provide this reasonable accommodation so that the client could remain in his current unit and pay no more than 40 percent of his adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: August 4, 2015.

Reason Waived: The participant, who is a person with disabilities, required an exception payment standard to remain in his current unit that meets his needs without becoming rent burdened. To provide this reasonable accommodation so that the client could remain in his current unit and pay no more than 40 percent of his adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramirez, Principal Deputy Assistant Secretary for Public and Indian Housing.

Date Granted: August 12, 2015.

Reason Waived: The applicant, who was a homeless veteran with disabilities, required an exception payment standard to move to a unit that met his needs. To provide this reasonable accommodation so that the client could move to this current unit and pay no more than 40 percent of his adjusted income toward the family share, the SFHA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Colorado Department of Local Affairs (CDLA), Denver, CO.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: September 15, 2015.

Reason Waived: A voucher applicant, who is a person with disabilities, required an exception payment standard to move to accessible unit that met her needs. To provide this reasonable accommodation so that the applicant could move to this unit and pay no more than 40 percent of her adjusted income toward the family share, the CDLA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Mohave County Housing Authority (MCHA), Kingman, AZ.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: September 15, 2015.

Reason Waived: A voucher applicant, who is a person with disabilities, required an exception payment standard to move to a unit that met his needs. To provide this reasonable accommodation so that the applicant could move to this unit and pay no more than 40 percent of her adjusted income toward the family share, the CDLA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Housing Authority of the County of Alameda (HACA), Hayward, CA.

Nature of Requirement: HUD's regulation at 24 CFR 982.505(d) states that a public housing agency may only approve a higher payment standard for a family as a reasonable accommodation if the higher payment standard is within the basic range of 90 to 110 percent of the fair market rent (FMR) for the unit size.

Granted By: Lourdes Castro Ramírez, Principal Deputy Assistant Secretary for Public and Indian Housing.

Date Granted: September 16, 2015.

Reason Waived: The participant, who is a person with disabilities, required an exception payment standard to remain in her current unit that meets her needs without becoming rent burdened. To provide this reasonable accommodation so that the client could remain in this unit and pay no more than 40 percent of her adjusted income toward the family share, the HACA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 982.505(d).

Project/Activity: Colorado Department of Local Affairs (CDLA), Denver, CO.

Nature of Requirement: HUD's regulation at 24 CFR 982.505(d) states that a public housing agency may only approve a higher payment standard for a family as a reasonable accommodation if the higher payment standard is within the basic range of 90 to 110 percent of the fair market rent (FMR) for the unit size.

Granted by: Lourdes Castro Ramírez, Principal Deputy Assistant Secretary for Public and Indian Housing.

Date Granted: September 16, 2015.

Reason Waived: A voucher applicant, who is a person with disabilities, required an exception payment standard to move to a unit that met her needs. To provide this reasonable accommodation so that the applicant could move to this unit and pay no more than 40 percent of her adjusted income toward the family share, the CDLA was allowed to approve an exception payment standard that exceeded the basic range of 90 to 110 percent of the FMR.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 983.55(b).

Project/Activity: Lincoln Housing Authority (LHA), Lincoln, NE.

Nature of Requirement: HUD's regulation at 24 CFR 983.55(b) states that the PHA may not enter an Agreement or HAP contract until HUD or an independent entity approved by HUD has conducted any required subsidy layering review and determined that the project-based voucher assistance is in accordance with HUD subsidy layering requirements.

Granted By: Lourdes Castro Ramírez, Principal Deputy Assistant Secretary for Public and Indian Housing.

Date Granted: August 12, 2015.

Reason Waived: This waiver was granted to facilitate the start of construction for this veterans project and to avoid the recapture of funds awarded. The LHA was permitted to execute an Agreement prior to the completion of a subsidy layering review, but no vertical construction could begin until this review was completed.

Contact: Becky Primeaux, Housing Voucher Management and Operations Division, Office of Public Housing and Voucher Programs, Office of Public and Indian Housing, Department of Housing and Urban Development, 451 Seventh Street SW., Room 4216, Washington, DC 20410, telephone (202) 708-0477.

• Regulation: 24 CFR 985.101(a).

Project/Activity: Beckville Housing Authority (BHA), Beckville, TX.

Nature of Requirement: HUD's regulation at 24 CFR 985.101(a) states a PHA must submit the HUD-required Section Eight Management Assessment Program (SEMAP) certification form within 60 calendar days after the end of its fiscal year.

Granted By: Lourdes Castro Ramírez, Principal Deputy Assistant Secretary for Public and Indian Housing.

Date Granted: July 20, 2015.

Reason Waived: This waiver was granted because for the BHA's fiscal year ending September 30, 2014. The executive director was not appointed to serve until the latter part of November 2014 and did not receive rights to enter data into IMS/PIC prior to the deadline. At the time of the appointment, no one else had rights to transmit SEMAP certifications.

Contact: Becky Primeaux, Housing Voucher Management and Operations Division, Office of Public Housing and Voucher Programs, Office of Public and Indian Housing, Department of Housing and Urban Development, 451 Seventh Street SW., Room 4216, Washington, DC, 20410, telephone (202) 708-0477.

[FR Doc. 2015-31874 Filed 12-17-15; 8:45 am]

BILLING CODE 4210-67-P